DEPARTMENT OF HOUSING AND URBAN DEVELOPMENT

[Docket No. FR-4980-N-43]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Audrey C. Ormerod, Department of the Army, Office of the Assistant Chief of Staff for Installation Management, Attn: DAIM-MD, Room 1E677, 600 Army Pentagon, Washington, DC 20310; (703) 601-2520; Energy: Mr. Andy Duran, Department of Energy, Office of Engineering & Construction Management, ME-90, 1000 Independence Ave, SW., Washington, DC 20585: (202) 586-4548; GSA: Mr. John Kelly, Acting Deputy Assistant Commissioner, General Services Administration, Office of Property Disposal, 18th & F Streets, NW., Washington, DC 20405; (202) 501-0084; Navy: Mr. Warren Meekins, Department of the Navy, Real Estate Services, Naval Facilities Engineering Command, Washington Navy Yard, 1322 Patterson Ave., SE., Suite 1000, Washington, DC 20374-5065; (202) 685-9305; (These are not toll-free numbers).

Dated: October 20, 2005.
Mark R. Johnston,
Director, Office of Special Needs Assistance Programs.

Title V, Federal Surplus Property Program Federal Register Report for 10/28/05

Suitable/Available Properties

Land (by State)

Idaho

2.3 acre parcel

25822 Middleton Road

Middleton Co: Canyon ID 83644-

Landholding Agency: GSA

Property Number: 54200540006

Status: Excess

Comment: 2.3 acres

GSA Number : 9-I-ID-558

Michigan

Lots 2-6

Lawndale Park Addition

Ludington Co: Mason MI 49431-

Landholding Agency: GSA

Property Number: 54200540007

Status: Excess

Comment: 0.81 acre—undeveloped

GSA Number : 1-G-MI-537-2

Unsuitable Properties

Buildings (by State)

Alabama

Bldg. 30113

Fort Rucker

Ft. Rucker Co: Dale AL 36362-

Landholding Agency: Army

Property Number: 21200540001

Status: Excess

Reason: Secured Area

4 Bldgs.

Redstone Arsenal

00001, 00003, 00004, 00005

Madison Co: AL 35898-5000

Landholding Agency: Army

Property Number: 21200540002

Status: Unutilized

Reasons: Secured Area; Extensive deterioration

Bldgs. 00007, 00008, 00012

Redstone Arsenal

Madison Co: AL 35898-5000

Landholding Agency: Army

Property Number: 21200540003

Status: Unutilized

Reasons: Secured Area; Extensive deterioration

Bldgs. 00030, 00035, 00046

Redstone Arsenal

Madison Co: AL 35898-5000

Landholding Agency: Army

Property Number: 21200540004

Status: Unutilized

Reasons: Secured Area; Extensive deterioration

Bldgs. 00289, 00291, 00293

Redstone Arsenal

Madison Co: AL 35898-5000

Landholding Agency: Army

Property Number: 21200540005

Status: Unutilized

Reasons: Secured Area; Extensive deterioration

Bldgs. 00429, 00431, 00454

Redstone Arsenal

Madison Co: AL 35898-5000

Landholding Agency: Army

Property Number: 21200540006

Status: Unutilized

Reasons: Secured Area; Extensive deterioration

California

Bldgs. 00208, 00210

Camp Roberts

San Miguel Co: Monterey CA 93451-

Landholding Agency: Army

Property Number: 21200540007

Status: Unutilized

Reason: Extensive deterioration

Bldgs. 00302, 00306, 00321

Camp Roberts

San Miguel Co: Monterey CA 93451-

Landholding Agency: Army

Property Number: 21200540008

Status: Unutilized

Reason: Extensive deterioration

4 Bldgs.

Camp Roberts

00921, T0929, T2014, T0948

San Miguel Co: Monterey CA 93451-

Landholding Agency: Army

Property Number: 21200540009

Status: Unutilized

Reason: Extensive deterioration

Bldgs. T1003, T1008

Camp Roberts

San Miguel Co: Monterey CA 93451-

Landholding Agency: Army

Property Number: 21200540010

Status: Unutilized

Reason: Extensive deterioration

5 Bldgs.

Camp Roberts

T1010, T1012, T2009, T2010, T2012

San Miguel Co: Monterey CA 93451-

Landholding Agency: Army

Property Number: 21200540011

Status: Unutilized

Reason: Extensive deterioration

Bldgs. T1121, T1221, T3014

Camp Roberts

San Miguel Co: Monterey CA 93451-

Landholding Agency: Army

Property Number: 21200540012

Status: Unutilized

Reason: Extensive deterioration

4 Bldgs.

Camp Roberts

T1124, T1224, T3040, T7014

San Miguel Co: Monterey CA 93451-

Landholding Agency: Army

Property Number: 21200540013

Status: Unutilized

Reason: Extensive deterioration

54 Bldgs.

Camp Roberts

San Miguel Co: Monterey CA 93451-

Location: T1202-T1209, T1212-T1219, T1302, T3102-T3109, T3112-T3119, T3302-T3309, T3312-T3316, T6102-T6107, T6308-T6309

Landholding Agency: Army

Property Number: 21200540014

Status: Unutilized

Reason: Extensive deterioration

4 Bldgs.

Camp Roberts

San Miguel Co: Monterey CA 93451-

Location: T1222, T1223, T1225, T1226

Landholding Agency: Army

Property Number: 21200540015

Status: Unutilized

Reason: Extensive deterioration

Bldgs. T1720, T1721

Camp Roberts

San Miguel Co: Monterey CA 93451-

Landholding Agency: Army

Property Number: 21200540016

Status: Unutilized

Reason: Extensive deterioration

Bldgs. T3001, 03002, T7016

Camp Roberts

San Miguel Co: Monterey CA 93451-

Landholding Agency: Army

Property Number: 21200540017

Status: Unutilized

Reason: Extensive deterioration

4 Bldgs.

Camp Roberts

03003, T4002, T3013, T3015

San Miguel Co: Monterey CA 93451-

Landholding Agency: Army

Property Number: 21200540018

Status: Unutilized

Reason: Extensive deterioration

4 Bldgs.

Camp Roberts

T3025, T3037, T3046, T3064

San Miguel Co: Monterey CA 93451-

Landholding Agency: Army

Property Number: 21200540019

Status: Unutilized

Reason: Extensive deterioration

22 Bldgs.

Camp Roberts

San Miguel Co: Monterey CA 93451-

Location: 03101, 03110, 03111, 03120, 05011, 06310, T1120, T1201, T1210, T1211, T1220, T1301, T3211, T3220, T3301, T3310, T3311, T4011, T6110, T6111, T6210, T6211

Landholding Agency: Army

Property Number: 21200540020

Status: Unutilized

Reason: Extensive deterioration

8 Bldgs.

Camp Roberts

San Miguel Co: Monterey CA 93451-

Location: 03121, 03122, 03124-03125, T1122, T1123, T1125-T1126

Landholding Agenct: Army

Property Number: 21200540021

Status: Unutilized

Reason: Extensive deterioration

Bldgs. T3321, T3322, T3324

Camp Roberts

San Miguel Co: Monterey CA 93451-

Landholding Agency: Army

Property Number: 21200540022

Status: Unutilized

Reason: Extensive deterioration

Bldg. T3325

Camp Roberts

San Miguel Co: Monterey CA 93451-

Landholding Agency: Army

Property Number: 21200540023

Status: Unutilized

Reason: Extensive deterioration

5 Bldgs.

Camp Roberts 04003, T4004, 04005, T4008, 04015

San Miguel Co: Monterey CA 93451-

Landholding Agency: Army

Property Number: 21200540024

Status: Unutilized

Reason: Extensive deterioration

5 Bldgs.

Camp Roberts 05003, 05004, 05005, 05007, 05015

San Miguel Co: Monterey CA 93451-

Landholding Agency: Army

Property Number: 21200540025

Status: Unutilized

Reason: Extensive deterioration

Bldgs. 06043, T6044, 06081

Camp Roberts

San Miguel Co: Monterey CA 93451-

Landholding Agency: Army

Property Number: 21200540026

Status: Unutilized

Reason: Extensive deterioration

Bldgs. 06409, T6411

Camp Roberts

San Miguel Co: Monterey CA 93451-

Landholding Agency: Army

Property Number: 21200540027

Status: Unutilized

Reason: Extensive deterioration

Bldg. 07006

Camp Roberts

San Miguel Co: Monterey CA 93451-

Landholding Agency: Army

Property Number: 21200540028

Status: Unutilized

Reason: Extensive deterioration

Bldgs. 14002, 14101

Camp Roberts

San Miguel Co: Monterey CA 93451-

Landholding Agency: Army

Property Number: 21200540029

Status: Unutilized

Reason: Extensive deterioration

Bldg. 27110

Camp Roberts

San Miguel Co: Monterey CA 93451-

Landholding Agency: Army

Property Number: 21200540030

Status: Unutilized

Reason:

Extensive deterioration

Bldg. 76910

Camp Roberts

San Miguel Co: Monterey CA 93451-

Landholding Agency: Army

Property Number: 21200540031

Status: Unutilized

Reason: Extensive deterioration

Bldgs. C920, C921, C922

Sandia Natl Laboratories

Livermore Co: Alameda CA 94551-

Landholding Agency: Energy

Property Number: 41200540001

Status: Unutilized

Reason: Secured Area

Extensive deterioration

Federal Supply Warehouse

1070 San Mateo Avenue

San Francisco Co: CA 94080-

Landholding Agency: GSA

Property Number: 54200540009

Status: Excess

Reason: Within 2000 ft. of flammable or explosive material

GSA Number: 9-G-CA-1641

Federal Building

401 San Joaquin Street

Stockton Co: CA 95201-

Landholding Agency: GSA

Property Number: 54200540010

Status: Surplus

Reason: Within 2000 ft. of flammable or explosive material

GSA Number: 9-G-CA-1599

Florida

Bldg. 969

Naval Air Station

Jacksonville Co: Duval FL 32212-

Landholding Agency: Navy

Property Number: 77200540014

Status: Unutilized

Reason: Secured Area

Bldgs. 1759, 1760

Naval Air Station

Jacksonville Co: Duval FL-

Landholding Agency: Navy

Property Number: 77200540015

Status: Unutilized

Reason: Secured Area

Bldg. 1917

Naval Air Station

Jacksonville Co: Duval FL 32212-

Landholding Agency: Navy

Property Number: 77200540016

Status: Unutilized

Reason: Secured Area

Georgia

Bldgs. 00227, 00295, 00296

Fort Benning

Chattachoochee Co: GA 31905-

Landholding Agency: Army

Property Number: 21200540032

Status: Excess

Reason: Extensive deterioration

Bldg. 9021

Fort Benning

Chattachoochee Co: GA 31905-

Landholding Agency: Army

Property Number: 21200540033

Status: Excess

Reason: Extensive deterioration

Bldgs. 18503, 18504, 18505

Fort Stewart

Hinesville Co: Liberty GA 31314-

Landholding Agency: Army

Property Number: 21200540034

Status: Excess

Reason: Extensive deterioration

Hawaii

Bldgs. 00013, 00022

Schofield Barracks

Honolulu Co: HI-

Landholding Agency: Army

Property Number: 21200540035

Status: Unutilized

Reason: Extensive deterioration

Bldgs. 00025, 00028, 00065

Schofield Barracks

Honolulu Co: HI

Landholding Agency: Army

Property Number: 21200540036

Status: Unutilized

Reason: Extensive deterioration

Bldgs. A1139, 1538

Schofield Barracks

Honolulu Co: HI

Landholding Agency: Army

Property Number: 21200540037

Status: Unutilized

Reason: Extensive deterioration

Iowa

Bldg. 00700

Iowa Army Ammo Plant

Middletown Co: Des Moines IA 52601-

Landholding Agency: Army

Property Number: 21200540038

Status: Unutilized

Reasons: Within 2000 ft. of flammable or explosive material Extensive deterioration

Bldgs. 01091, 01092

Iowa Army Ammo Plant

Middletown Co: Des Moines IA 52601-

Landholding Agency: Army

Property Number: 21200540039

Status: Unutilized

Reasons: Within 2000 ft. of flammable or explosive material; Extensive deterioration

Kansas

Bldg. 01987

Fort Riley

Riley Co: KS 66442-

Landholding Agency: Army

Property Number: 21200540040

Status: Unutilized

Reason: Extensive deterioration

Kentucky

Atkinson Park Access Site

Tracts 1406, 1406E

Henderson Co: KY

Landholding Agency: GSA

Property Number: 54200540008

Status: Excess

Reason: Floodway

GSA Number: 4-D-KY-0621

Maryland

Bldg. 00279

Fort Detrick

Frederick Co: MD 21702-

Landholding Agency: Army

Property Number: 21200540041

Status: Unutilized

Reason: Secured Area

Bldgs. 877, 887

Naval Air Station

Patuxent River Co: MD

Landholding Agency: Navy

Property Number: 77200540008

Status: Excess

Reason: Extensive deterioration

Bldgs. 1496, 1497, 1498

Naval Air Station

Patuxent River Co: MD

Landholding Agency: Navy

Property Number: 77200540009

Status: Excess

Reason: Extensive deterioration

Bldgs. 1653, 1654, 1655

Naval Air Station

Patuxent River Co: MD

Landholding Agency: Navy

Property Number: 77200540010

Status: Excess

Reason: Extensive deterioration

Bldg. 1663

Naval Air Station

Patuxent River Co: MD

Landholding Agency: Navy

Property Number: 77200540011

Status: Excess

Reason: Extensive deterioration

Bldg. 1697

Naval Air Station

Patuxent River Co: MD

Landholding Agency: Navy

Property Number: 77200540012

Status: Excess

Reason: Extensive deterioration

Bldg. 1766

Naval Air Station

Patuxent River Co: MD

Landholding Agency: Navy

Property Number: 77200540013

Status: Excess

Reason: Extensive deterioration

Michigan

Bldgs. 01140, 01143, 01145

Grayling Army Airfield

Crawford Co: MI 49739-

Landholding Agency: Army

Property Number: 21200540042

Status: Excess

Reason: Extensive deterioration

9 Bldgs.

Grayling Army Airfield

Crawford Co: MI 49739-

Location: 1150B, 1152B, 1154B, 1156B, 1160B, 1162B, 1164B, 1196B, 01166

Landholding Agency: Army

Property Number: 21200540043

Status: Excess

Reason: Extensive deterioration

Bldgs. 01160, 1172A

Grayling Army Airfield

Crawford Co: MI 49739-

Landholding Agency: Army

Property Number: 21200540044

Status: Excess

Reason: Extensive deterioration

Bldgs. 1176M, 1190M

Grayling Army Airfield

Crawford Co: MI 49739-

Landholding Agency: Army

Property Number: 21200540045

Status: Excess

Reason: Extensive deterioration

Bldgs. 1180B, 1182B, 1194B

Grayling Army Airfield

Crawford Co: MI 49739-

Landholding Agency: Army

Property Number: 21200540046

Status: Excess

Reason: Extensive deterioration

Bldg. 1190A

Grayling Army Airfield

Crawford Co: MI 49739-

Landholding Agency: Army

Property Number: 21200540047

Status: Excess

Reason: Extensive deterioration

Bldgs. 02409, 02414, 02537

Ft. Custer Training Center

Augusta Co: Kalamazoo MI 49012-

Landholding Agency: Army

Property Number: 21200540048

Status: Excess

Reason: Extensive deterioration

12 Bldgs.

Ft. Custer Training Center

Augusta Co: Kalamazoo MI 49012-

Location: 02415, 02416-02417, 02431-02433, 02505-02507, 02534, 02538-02539

Landholding Agency: Army

Property Number: 21200540049

Status: Excess

Reason: Extensive deterioration

4 Bldgs.

Ft. Custer Training Center

02435, 02434, 02436, 02437

Augusta Co: Kalamazoo MI 49012-

Landholding Agency: Army

Property Number: 21200540050

Status: Excess

Reason: Extensive deterioration

4 Bldgs.

Ft. Custer Training Center

02441, 02508, 02514, 02530

Augusta Co: Kalamazoo MI 49012-

Landholding Agency: Army

Property Number: 21200540051

Status: Excess

Reason: Extensive deterioration

New Jersey

Bldgs. P2502, P2522

Fort Dix

Burlington Co: NJ 08640-

Landholding Agency: Army

Property Number: 21200540052

Status: Unutilized

Reason: Extensive deterioration

Bldgs. P2503, P2504, P2516

Fort Dix

Burlington Co: NJ 08640-

Landholding Agency: Army

Property Number: 21200540053

Status: Unutilized

Reason: Extensive deterioration

4 Bldgs.

Fort Dix

P2505, P2508, P2507, P2509

Burlington Co: NJ 08640-

Landholding Agency: Army

Property Number: 21200540054

Status: Unutilized

Reason: Extensive deterioration

Bldgs. 5204, 5207

Fort Dix

Burlington Co: NJ 08640-

Landholding Agency: Army

Property Number: 21200540055

Status: Unutilized

Reason: Extensive deterioration

Bldgs. 6057, 57473

Fort Dix

Burlington Co: NJ 08640-

Landholding Agency: Army

Property Number: 21200540056

Status: Unutilized

Reason: Extensive deterioration

New York

Bldgs. 01552, 01559

Fort Drum

Jefferson Co: NY 13602-

Landholding Agency: Army

Property Number: 21200540057

Status: Unutilized

Reason: Extensive deterioration

Bldgs. 21434, 22668

Fort Drum

Jefferson Co: NY 13602-

Landholding Agency: Army

Property Number: 21200540058

Status: Unutilized

Reason: Extensive deterioration

Bldgs. 22744, 22772

Fort Drum

Jefferson Co: NY 13602-

Landholding Agency: Army

Property Number: 21200540059

Status: Unutilized

Reason: Extensive deterioration

North Carolina

Bldgs. A4671, A4673, A4854

Fort Bragg

Cumburland Co: NC 28310-

Landholding Agency: Army

Property Number: 21200540060

Status: Unutilized

Reason: Extensive deterioration

Bldgs. 31122, 31124, 31125

Fort Bragg

Cumburland Co: NC 28310-

Landholding Agency: Army

Property Number: 21200540061

Status: Unutilized

Reason: Extensive deterioration

Pennsylvania

Bldg. 00040

Carlisle Barracks

Cumberland Co: PA 17013-

Landholding Agency: Army

Property Number: 21200540062

Status: Unutilized

Reason: Extensive deterioration

Tennessee

Bldgs. 07878, 07882, 07884

Fort Campbell

Montgomery Co: TN 42223-

Landholding Agency: Army

Property Number: 21200540063

Status: Unutilized

Reason: Extensive deterioration

Bldg. 7900

Fort Campbell

Montgomery Co: TN 42223-

Property Number: 21200540064

Status: Unutilized

Reason: Extensive deterioration

Bldgs. 7905, 7906, 7907

Fort Campbell

Montgomery Co: TN 42223-

Landholding Agency: Army

Property Number: 21200540065

Status: Unutilized

Reason: Extensive deterioration

4 Bldgs.

Fort Campbell

7908, 7909, 7910, 7911

Montgomery Co: TN 42223-

Landholding Agency: Army

Property Number: 21200540066

Status: Unutilized

Reason: Extensive deterioration

4 Bldgs.

Fort Campbell

7912, 7913, 7914, 7915

Montgomery Co: TN 42223-

Landholding Agency: Army

Property Number: 21200540067

Status: Unutilized

Reason: Extensive deterioration

4 Bldgs.

Fort Campbell

7920, 7921, 7922, 7923

Montgomery Co: TN 42223-

Landholding Agency: Army

Property Number: 21200540068

Status: Unutilized

Reason: Extensive deterioration

Bldgs. 7928, 7929, 7930

Fort Campbell

Montgomery Co: TN 42223-

Landholding Agency: Army

Property Number: 21200540069

Status: Unutilized

Reason: Extensive deterioration

Texas

Bldgs. 7122, 7125

Fort Bliss

El Paso Co: TX 79916-

Landholding Agency: Army

Property Number: 21200540070

Status: Unutilized

Reason: Extensive deterioration

Bldg. 7136

Fort Bliss

El Paso Co: TX 79916-

Landholding Agency: Army

Property Number: 21200540071

Status: Unutilized

Reason: Extensive deterioration

Bldgs. 7152, 7155

Fort Bliss

El Paso Co: TX 79916-

Landholding Agency: Army

Property Number: 21200540072

Status: Unutilized

Reason: Extensive deterioration

Bldg. 7167

Fort Bliss

El Paso Co: TX 79916-

Landholding Agency: Army

Property Number: 21200540073

Status: Unutilized

Reason: Extensive deterioration

Virginia

Bldg. 55

Fort Myer

Ft. Myer Co: VA 22211-

Landholding Agency: Army

Property Number: 21200540074

Status: Excess

Reason: Extensive deterioration

Wisconsin

Bldgs. M5H33, R0335

Fort McCoy

Monroe Co: WI 54656-

Landholding Agency: Army

Property Number: 21200540075

Status: Unutilized

Reason: Extensive deterioration

[FR Doc. 05-21325 Filed 10-27-05; 8:45 am]

BILLING CODE 4210-29-P